DEPARTMENT OF THE TREASURY

Community Development Financial Institutions Fund

Proposed Collection; Comment Request

AGENCY: Community Development Financial Institutions Fund, Treasury.

ACTION: Notice and request for comments.

SUMMARY: The U.S. Department of the Treasury, as part of its continuing effort to reduce paperwork and respondent burden, invites the general public and other Federal agencies to take this opportunity to comment on proposed and/or continuing information collections, as required by the Paperwork Reduction Act of 1995, 44 U.S.C. 3506(c)(2)(A). Currently, the Community Development Financial Institutions Fund (CDFI Fund), Department of the Treasury, is soliciting comments concerning the New Markets Tax Credit Program (NMTC Program)—Allocation Application (hereafter, the Application), in anticipation of extension of the program beyond CY 2013.

DATES: Written comments must be received on or before March 17, 2014 to be assured of consideration.

ADDRESSES: Direct all comments to Robert Ibanez, NMTC Program Manager, CDFI Fund, U.S. Department of the Treasury, 1500 Pennsylvania Avenue NW, Washington, DC 20220, by email to nmtc@cdfi.treas.gov, or by facsimile to (202) 508-0084. Please note this is not a toll free number.

FOR FURTHER INFORMATION CONTACT: The Application may be obtained from the NMTC Program page of the CDFI Fund's Web site at http://www.cdfifund.gov/what_we_do/programs_id.asp?programID=5#. Requests for additional information should be directed to Robert Ibanez, NMTC Program Manager, Community Development Financial Institutions Fund, U.S. Department of the Treasury, 1500 Pennsylvania Avenue NW, Washington, DC 20220, by email to nmtc@cdfi.treas.gov, or by facsimile to (202) 508-0084. Please note this is not a toll free number.

SUPPLEMENTARY INFORMATION: Title: New Markets Tax Credit (NMTC) Program—Allocation Application.

OMB Number: 1559-0016

Abstract: Title I, subtitle C, section 121 of the Community Renewal Tax Relief Act of 2000 (the Act) amended the Internal Revenue Code (IRC) by adding IRC § 45D and created the NMTC Program. The Department of the Treasury, through the CDFI Fund, Internal Revenue Service, and Office of Tax Policy, administers the NMTC Program. In order to claim the NMTC, taxpayers make Qualified Equity Investments (QEIs) in Community Development Entities (CDEs) and substantially all of the QEI proceeds must, in turn, be used by the CDE to provide investments in businesses and real estate developments in low-income communities and other purposes authorized under the statute.

The tax credit provided to the investor totals 39 percent of the amount of the investment and is claimed over a seven-year period. In each of the first three years, the investor receives a credit equal to five percent of the total amount paid for the stock or capital interest at the time of purchase. For the final four years, the value of the credit is six percent annually. Investors may not redeem their investments in CDEs prior to the conclusion of the seven-year period without forfeiting any credit amounts they have received.

The CDFI Fund is responsible for certifying organizations as CDEs, and administering the competitive allocation of tax credit authority to CDEs, which it does through annual allocation rounds. As part of the award selection process, CDEs will be required to prepare and submit an Application, which will include five key sections—Business Strategy; Community Outcomes; Management Capacity; Capitalization Strategy; and Information Regarding Prior Awards. The CDFI Fund will conduct the substantive review of each application in two parts (Phase 1 and Phase 2), as defined in a Notice of Allocation Availability for each round. In Phase 1, the application will be evaluated by reviewers to generate scores for the Business Strategy and Community Outcomes sections plus statutory priority points. The scores will be used to determine a rank-order list of the most highly-qualified CDEs. In Phase 2, the CDFI Fund will evaluate the entire application of each highly-qualified, highly-ranked CDE.

Current Actions: Extension (without change)

Type of review: Regular

Affected public: CDEs seeking NMTC Program allocation authority.

Estimated Number of Respondents: 310

Estimated Annual Time per Respondent: 263

Estimated Total Annual Burden Hours: 81,530 hours

Requests for Comments: Comments submitted in response to this notice will be summarized and/or included in the request for Office of Management and Budget approval. All comments will become a matter of public record and may be published on the Fund Web site at http://www.cdfifund.gov. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 26 U.S.C. 45D; 26 CFR 1.45D-1.

Dated: January 9, 2014.
Bob Ibanez,
NMTC Program Manager, Community Development Financial Institutions Fund.

[FR Doc. 2014-00510 Filed 1-13-14; 8:45 am]

BILLING CODE 4810-70-P